DEPARTMENT OF THE INTERIOR

National Park Service

Delaware Water Gap National Recreation Area Citizen Advisory Commission Meeting

AGENCY: National Park Service; Interior.

ACTION: Notice of public meetings.

SUMMARY: This notice announces two public meetings of the Delaware Water Gap National Recreation Area Citizen Advisory Commission. Notice of these meetings is required under the Federal Advisory Committee Act, as amended (5 U.S.C. App. 2).

DATES: Saturday, March 10, 2007, 9 a.m.

ADDRESSES: New Jersey District Office, Walpack, NJ 07881.

The agenda will include reports from Citizen Advisory Commission members including committees such as Natural Resources, Inter-Governmental, Cultural Resources, By-Laws, Special Projects, and Public Visitation and Tourism. Superintendent John J. Donahue will give a report on various park issues, including cultural resources, natural resources, construction projects, and partnership ventures. The agenda is set up to invite the public to bring issues of interest before the Commission.

Date: Saturday, March 10, 2007, 9 a.m.

Addresses: New Jersey District Office, Walpack, NJ 07881.

The agenda will include election of Delaware Water Gap National Recreation Area Citizen Advisory Commission officers for the 2007-2008 term.

FOR FURTHER INFORMATION CONTACT: Superintendent John J. Donahue, 570-426-2418.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

Dated: January 17, 2007.
John J. Donahue,
Superintendent.

[FR Doc. 07-432 Filed 1-31-07; 8:45 am]

BILLING CODE 4312-JG-M